NUCLEAR REGULATORY COMMISSION

[NRC-2011-0096]

Inservice Inspection of Prestressed Concrete Containment Structures With Grouted Tendons

AGENCY: Nuclear Regulatory Commission.

ACTION: Regulatory guide; issuance.

SUMMARY: The U.S. Nuclear Regulatory Commission (NRC) is issuing a revision to Regulatory Guide (RG) 1.90, “Inservice Inspection of Prestressed Concrete Containment Structures with Grouted Tendons.” This guide describes a method that the NRC staff considers acceptable for use in developing an appropriate surveillance program for prestressed concrete containment structures with grouted tendons.

ADDRESSES: Please refer to Docket ID NRC-2011-0096 when contacting the NRC about the availability of information regarding this document. You may access information related to this document, which the NRC possesses and are publicly-available, using any of the following methods:

• Federal Rulemaking Web site: Go to http://www.regulations.gov and search for Docket ID NRC-2011-0096. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 2 of Regulatory Guide 1.90 is available in ADAMS under Accession No. ML11249A008. The regulatory analysis may be found in ADAMS under Accession No. ML11249A009.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Mekonen Bayssie, Office of Nuclear Regulatory Research, U.S. Nuclear Regulatory Commission, Washington, DC 20555-0001; telephone: 301-251-7489; email: Mekonen.Bayssie@nrc.gov.

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

Revision 2 of RG 1.90 was issued with a temporary identification as Draft Regulatory Guide, DG-1197. The recommendations described in this guide constitute an approach that the NRC staff finds acceptable for satisfying the requirements of General Design Criterion (GDC) 53, “Provisions for Containment Testing and Inspection,” of Appendix A, “General Design Criteria for Nuclear Power Plants,” part 50 of Title 10 of the Code of Federal Regulations (10 CFR), “Domestic Licensing of Production and Utilization Facilities,” and 10 CFR 50.55a” Codes and Standards” Paragraph (g)(4) “Inservice Inspection Requirements.”

The previous Revision 1 of this RG was published in 1977. Since this publication, the industry and the NRC have been involved in research and testing to determine and evaluate the effectiveness of containment inservice inspection (ISI) programs, particularly the reliability of installed instrumentation and the use of periodic pressure tests. In addition, the NRC has reviewed containment tendon ISI programs as part of license applications. Revision 2 of RG 1.90 is a result of these efforts. It provides an ISI program that is based on a real-time, multiple-strategy approach (i.e., appropriate grout design and installation, installed instrumentation, periodic pressure tests, and visual examination).

II. Further Information

DG-1197 was published in the Federal Register on April 28, 2011 (76 FR 23845) for a 60-day public comment period. The public comment period closed on June 26, 2011. Public comments on DG-1197 and the NRC staff responses to the public comments are available under ADAMS Accession No. ML11249A010.

III. Backfitting and Issue Finality

Issuance of this final regulatory guide does not constitute backfitting as defined in 10 CFR 50.109 (the Backfit Rule) and is not otherwise inconsistent with the issue finality provisions in 10 CFR part 52. As discussed in the “Implementation” section of this regulatory guide, the NRC has no current intention to impose this regulatory guide on holders of current operating licenses or combined licenses.

This regulatory guide may be applied to applications for operating licenses and combined licenses docketed by the NRC as of the date of issuance of the final regulatory guide, as well as future applications for operating licenses and combined licenses submitted after the issuance of the regulatory guide. Such action does not constitute backfitting as defined in 10 CRF 50.109(a)(1) or is otherwise inconsistent with the applicable issue finality provision in 10 CFR Part 52, inasmuch as such applicants or potential applicants are not within the scope of entities protected by the Backfit Rule or the relevant issue finality provisions in Part 52.

Dated at Rockville, Maryland, this 8th day of November, 2012.
For the Nuclear Regulatory Commission.
Thomas H. Boyce,
Chief, Regulatory Guide Development Branch, Division of Engineering, Office of Nuclear Regulatory Research.

[FR Doc. 2012-28075 Filed 11-16-12; 8:45 am]

BILLING CODE 7590-01-P